DEPARTMENT OF JUSTICE

Office of Justice Programs

[OJP (OJJDP) Docket No. 1639]

Meeting of the Federal Advisory Committee on Juvenile Justice

AGENCY: Office of Juvenile Justice and Delinquency Prevention, Office of Justice Programs, U.S. Department of Justice.

ACTION: Notice of meeting.

SUMMARY: The Office of Juvenile Justice and Delinquency Prevention (OJJDP) announces a meeting of the Federal Advisory Committee on Juvenile Justice (FACJJ).

DATES: Dates and Location: The meeting will take place on Monday, December 9, 2013 from 8:30 to 5:30 (ET), and Tuesday, December 10, 2013 from 8:30 to 1:30 p.m. (ET). The meeting will take place in the third floor main conference room at the U.S. Department of Justice, Office of Justice Programs, 810 7th St. NW., Washington, DC 20531.

FOR FURTHER INFORMATION CONTACT: Kathi Grasso, Designated Federal Official, OJJDP, Kathi.Grasso@usdoj.gov, or (202) 616-7567. [This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The proposed agenda will include: (a) Welcome and introductions; (b) remarks from OJJDP senior leadership; (c) presentation on subcommittee reports, including draft recommendations; (d) final consideration by full Committee of draft FACJJ subcommittee recommendations; (e) vote on recommendations by FACJJ; (f) presentations on OJJDP initiatives of interest to FACJJ members; (g) other business; and (f) adjournment.

To observe this meeting, members of the public must pre-register online. Interested persons must link to the registration portal through www.facjj.org, no later than Wednesday, December 4, 2013. Note: Members of the public will be able to observe portions of the FACJJ meeting open to the public, but will not be able to actively participate. Subcommittee breakout sessions (which most likely will be held in the first hour of the meeting) to conduct internal FACJJ business will be closed to the general public.

Written Comments: Interested parties may submit written comments in advance to Kathi Grasso, Designated Federal Official, by email to Kathi.Grasso@usdoj.gov, no later than Wednesday, December 4, 2013. You can also call Joyce Mosso Stokes at 202-305-4445 to ensure that they are received. [This is a not a toll-free number.]

Robert L. Listenbee,
Administrator, Office of Juvenile Justice and Delinquency Prevention.

[FR Doc. 2013-27948 Filed 11-20-13; 8:45 am]

BILLING CODE 4410-18-P